DEPARTMENT OF THE INTERIOR

Bureau of Ocean Energy Management

Environmental Documents Prepared for Oil, Gas, and Mineral Operations by the Gulf of Mexico Outer Continental Shelf (OCS) Region

AGENCY: Bureau of Ocean Energy Management (BOEM), Interior.

ACTION: Notice of the availability of environmental documents prepared for OCS mineral proposals by the Gulf of Mexico OCS Region

SUMMARY: BOEM, in accordance with Federal Regulations that implement the National Environmental Policy Act (NEPA), announces the availability of NEPA-related Site-Specific Environmental Assessments (SEAs), Environmental Assessments (EAs), and Findings of No Significant Impact (FONSIs). These EAs were prepared during the period January 1, 2012, through March 30, 2012, for oil, gas, and mineral-related activities that were proposed on the Gulf of Mexico, or more specifically described in the Supplementary Information Section of this notice.

FOR FURTHER INFORMATION CONTACT: Public Information Unit, Information Services Section at the number below. Bureau of Ocean Energy Management, Gulf of Mexico OCS Region, Attention: Public Information Office (MS 5034), 1201 Elmwood Park Boulevard, Room 250, New Orleans, Louisiana 70123-2394, or by calling 1-800-200-GULF.

SUPPLEMENTARY INFORMATION: BOEM prepares SEAs and FONSIs for proposals that relate to exploration, development, production, and transport of oil, gas, and mineral resources on the Federal OCS. These SEAs examine the potential environmental effects of activities described in the proposals and present BOEM conclusions regarding the significance of those effects. The EAs are used as a basis for determining whether or not approval of the proposals constitutes a major Federal action that significantly affects the quality of the human environment in accordance with NEPA Section 102(2)(C). A FONSI is prepared in those instances where BOEM finds that approval will not result in significant effects on the quality of the human environment. The FONSI briefly presents the basis for that finding and includes a summary or copy of the SEA.

This notice constitutes the public notice of availability of environmental documents required under the NEPA Regulations.

Activity/operator | Location | Date
GX Technology, Geological & Geophysical Survey, SEA L11-022 | Located in the Central Planning Area of the Gulf of Mexico | 1/5/2012
Noble Energy, Inc., Exploration Plan, SEA R-5295 | Located southeast of Venice, Louisiana, 67 miles from the nearest Louisiana shoreline, in Plaquemines Parish, Louisiana | 1/9/2012
Anadarko Petroleum Corporation, Exploration Plan, SEA N-9579 | Located southwest of Port Fourchon, Louisiana, 118 miles from the nearest Louisiana shoreline | 1/10/2012
Shell Offshore Inc., Exploration Plan, SEA S-7523 | Located south of Mobile, Alabama, 75 miles from the nearest Louisiana shoreline | 1/11/2012
Stone Energy Corporation, Structure Removal, SEA ES/SR 11-333 | South Timbalier, Block 34, Lease OCS-G 04842, located 9 miles from the nearest Louisiana shoreline | 1/12/2012
WesternGeco LLC, Geological & Geophysical Survey, SEA T11-002 | Located East of Texas, in the Western Planning Area of the Gulf of Mexico | 1/13/2012
WesternGeco LLC, Geological & Geophysical Survey, SEA T11-003 | Located in the Central Planning Area of the Gulf of Mexico | 1/13/2012
Walter Oil & Gas Corporation, Exploration Plan, SEA R-5430 | Located in the Western Planning Area, 35 miles from the nearest Louisiana shoreline, south of Calcasieu Parish, Louisiana | 1/13/2012
Maritech Resources, Inc., Structure Removal, SEA ES/SR 11-318, 11-319 & 11-320 | South Marsh Island, Block 48, Lease OCS-G 00786, located 45 miles from the nearest Louisiana shoreline | 1/13/2012
ATP Oil & Gas Corporation, Development Operations Coordination Document, SEA S-7437 | Mississippi Canyon, Block 711, Lease OCS-G 14016, located in the Central Planning Area, 49 miles from the nearest Louisiana shoreline | 1/18/2012
Shell Offshore Inc., Geological and Geophysical Survey, SEA L11-020 | Located in the Central Planning Area of the Gulf of Mexico | 1/20/2012
Chevron U.S.A. Inc., Geological and Geophysical Survey, SEA L11-021 | Located in the Central Planning Area of the Gulf of Mexico | 1/23/2012
Shell Offshore Inc., Exploration Plan, SEA R-5401 | Alaminos Canyon, Block 857, located 140 miles from the nearest Texas shoreline | 1/24/2012
LLOG Exploration Offshore, L.L.C., Exploration Plan, SEA R-5416 | Mississippi Canyon, Block 431, located 55 miles from the nearest Louisiana shoreline | 1/24/2012
Shell Offshore Inc., Geological & Geophysical Survey, SEA L11-023 | Located in the Central Planning Area of the Gulf of Mexico | 1/26/2012
Anadarko Petroleum Corporation, Exploration Plan, SEA S-7527 | Mississippi Canyon, Block 875, located 89 miles from the nearest Louisiana shoreline | 1/26/2012
Pisces Energy LLC, Structure Removal, SEA ES/SR 11-217 & 11-218 | South Timbalier, Block 162, Lease OCS-G 01249, located 33 miles from the nearest Louisiana shoreline | 1/26/2012
Pisces Energy LLC, Structure Removal, SEA ES/SR 11-216 | Viosca Knoll, Block 76, Lease OCS-G 09737, located 21 miles from the nearest Alabama shoreline | 1/27/2012
Palm Energy Offshore, L.L.C., Structure Removal, SEA ES/SR 11-239 | West Cameron, Block 538, Lease OCS-G 02552, located 93 miles from the nearest Louisiana shoreline | 1/27/2012
Hess Corporation, Development Operations Coordination Document, SEA N-9565 | Mississippi Canyon, Block 725 & 726, Lease OCS-G 22898 & 24101, located 56 miles from the nearest Louisiana shoreline, southeast of Port Fourchon, Lafourche Parish, Louisiana | 1/31/2012
Anadarko Petroleum Corporation, Exploration Plan, SEA R-5445 | Green Canyon, Block 903, located 130 miles from the Louisiana shoreline, south of Terrebonne Parish, Louisiana | 2/2/2012
Stone Energy Corporation, Structure Removal, SEA ES/SR 12-049 | South Pass, Block 38, Lease OCS-G 21695, located 11 miles from the nearest Louisiana shoreline | 2/2/2012
Stone Energy Corporation, Structure Removal, SEA ES/SR 12-057 | South Timbalier, Block 71, Lease OCS-G 14519, located 19 miles from the nearest Louisiana shoreline | 2/2/2012
Palm Energy Offshore, L.L.C., Structure Removal, SEA ES/SR 11-240 | West Cameron, Block 538, Lease OCS-G 02552, located 99 miles from the nearest Louisiana shoreline | 2/3/2012
W & T Offshore, Inc., Structure Removal, SEA ES/SR 05-046A | West Cameron, Block 554, Lease OCS-G 07629, located 80 miles from the nearest Louisiana shoreline | 2/3/2012
Shell Offshore Inc., Exploration Plan, SEA N-9600 | Mississippi Canyon, Block 525, located 79 miles from the nearest Louisiana shoreline, south of Venice, Louisiana, in Plaquemines Parish, Louisiana | 2/6/2012
Anadarko Petroleum Corporation, Exploration Plan, SEA N-9589 | Lloyd Ridge, Block 177, located 113 miles from the nearest Louisiana shoreline, south of Mobile, Alabama | 2/9/2012
Tesla Offshore, LLC, Geological & Geophysical Survey, SEA L11-024 | Located in the Central Planning Area of the Gulf of Mexico | 2/10/2012
Fugro Multi Client Services, Inc., Geological & Geophysical Survey, SEA M12-001 | Located in the Eastern Planning Area of the Gulf of Mexico | 2/10/2012
Statoil USA E&P Inc., Exploration Plan, SEA R-5444 | Green Canyon, Block 404, located 118 miles from the nearest Louisiana shoreline | 2/13/2012
Cobalt International Energy, L.P., Exploration Plan, SEA R-5414 | Green Canyon, Block 814, located 130 miles from the nearest Louisiana shoreline, south of Terrebonne Parish, Louisiana | 2/13/2012
Dynamic Offshore Resources, LLC, Structure Removal, SEA ES/SR 11-222 | Ship Shoal, Block 253, Lease OCS-G 01031, located 47 miles from the nearest Louisiana shoreline | 2/13/2012
Fairways Offshore Exploration, Inc., Structure Removal, SEA ES/SR 11-325 | High Island, Block 154, Lease OCS-G 23611, located 22 miles from the nearest Texas shoreline | 2/14/2012
Anadarko Petroleum Corporation, Exploration Plan, SEA S-7513 | Walker Ridge, Block 51, located 152 miles from the nearest Louisiana shoreline, south of Terrebonne Parish, Louisiana | 2/14/2012
Apache Corporation, Structure Removal, SEA ES/SR 12-021 | Eugene Island, Block 105, Lease OCS-00797, located 22 miles from the nearest Louisiana shoreline | 2/16/2012
Energy Resource Technology GOM, Inc., Structure Removal, SEA ES/SR 11-306 | South Marsh Island, Block 15, Lease OCS-G 09534, located 43 miles from the nearest Louisiana shoreline | 2/16/2012
Stone Energy Corporation, Structure Removal, SEA ES/SR 11-334 | South Timbalier, Block 30, Lease OCS-G 13928, located 13 miles from the nearest Louisiana shoreline | 2/16/2012
Noble Energy, Inc., Exploration Plan, SEA N-9599 | Mississippi Canyon, Block 697, Lease OCS-G 28021, located 68 miles from the nearest Louisiana shoreline | 2/17/2012
Noble Energy, Inc., Exploration Plan, SEA S-7521 | Green Canyon, Blocks 723 & 679, Leases OCS-G 21813 & 21811, located 122 miles from the nearest Louisiana shoreline | 2/23/2012
Chevron U.S.A. Inc., Development Operations Coordination Document, SEA N-9580 | Walker Ridge, Block 718, located 195 miles from the nearest Louisiana shoreline, southwest of Port Fourchon, Louisiana | 2/23/2012
Energy Resource Technology GOM, Inc., Structure Removal, SEA ES/SR 11-315 | East Cameron, Block 184, Lease OCS-G 21579, located 57 miles from the nearest Louisiana shoreline | 2/24/2012
Energy Resource Technology GOM, Inc., Structure Removal, SEA ES/SR 11-314 | East Cameron, Block 185, Lease OCS-G 22585, located 60 miles from the nearest Louisiana shoreline | 2/24/2012
Apache Corporation, Structure Removal, SEA ES/SR 12-022, 12-023 & 12-024 | South Pelto, Block 10, Lease OCS-G 02925, located 5 miles from the nearest Louisiana shoreline | 2/24/2012
Energy Resource Technology GOM, Inc., Structure Removal, SEA ES/SR 11-303 | South Timbalier, Block 145, Lease OCS-G 26098, located 33 miles from the nearest Louisiana shoreline | 2/24/2012
Wild Well Control, Inc., Structure Removal, SEA ES/SR 11-220A | West Delta, Block 69, Lease OCS 00181, located 23 miles from the nearest Louisiana shoreline | 2/24/2012
Stone Energy Corporation, Structure Removal, SEA ES/SR 12-098 | Ship Shoal, Block 97, Lease OCS-G 24922, located 13 miles from the nearest Louisiana shoreline | 3/2/2012
Stone Energy Corporation, Structure Removal, SEA ES/SR 12-099 | South Timbalier, Block 11, Lease OCS-G 13925, located 100 miles from the nearest Louisiana shoreline | 3/2/2012
Mariner Energy Resources, Inc., Structure Removal, SEA ES/SR 12-037 | Vermilion, Block 35, Lease OCS-G 00548, located 7 miles from the nearest Louisiana shoreline | 3/2/2012
Mariner Energy Resources, Inc., Structure Removal, SEA ES/SR 12-038 | Vermilion, Block 35, Lease OCS-G 00548, located 7 miles from the nearest Louisiana shoreline | 3/2/2012
Mariner Energy Resources, Inc., Structure Removal, SEA ES/SR 12-003 | South Marsh Island, Block 11, Lease OCS-G 01182, located 37 miles from the nearest Louisiana shoreline | 3/7/2012
Fugro Multi Client Services, Inc., Geological & Geophysical Survey, SEA L11-017 | Located in the Central Planning Area of the Gulf of Mexico | 3/8/2012
Chevron U.S.A. Inc., Exploration Plan, SEA S-7531 | Keathley Canyon, Blocks 828, 829 & 872, located 211 miles from the nearest Louisiana shoreline | 3/9/2012
Mariner Energy Resources, Inc., Structure Structure Removal, SEA ES/SR 12-040 | Vermilion, Block 35, Lease OCS-G 00548, located 7 miles from the nearest Louisiana shoreline | 3/14/2012
Mariner Energy Resources, Inc., Structure Removal, SEA ES/SR 12-039 | Vermilion, Block 35, Lease OCS-G 00549, located 7 miles from the nearest Louisiana shoreline | 3/14/2012
BP Exploration & Production Inc., Exploration Plan, SEA R-5440 | Green Canyon, Block 744, located 122 miles from the nearest Louisiana shoreline | 3/21/2012
Cobalt International Energy, L.P., Exploration Plan, SEA R-5396 | Keathley Canyon, Blocks 163 & 207, Leases OCS-G 32606 & 32610, located 179 miles from the nearest Louisiana shoreline | 3/21/2012
GOM Shelf LLC, Structure Removal, SEA ES/SR 10-040A | Grand Isle, Block 48, Lease OCS 00134, located 15 miles from the nearest Louisiana shoreline | 3/23/2012
Energy Resources Technology GOM, Inc., Structure Removal, SEA ES/SR 11-305 | South Timbalier, Block 63, Lease OCS-G 00599, located 15 miles from the nearest Louisiana shoreline | 3/23/2012
Energy Resource Technology GOM, Inc., Structure Removal, SEA ES/SR 11-311 | South Timbalier, Block 63, Lease OCS-G 00599, located 18 miles from the nearest Louisiana shoreline | 3/23/2012
Energy Resource Technology GOM, Inc., Structure Removal, SEA ES/SR 11-312 | South Timbalier, Block 63, Lease OCS-G 00599, located 18 miles from the nearest Louisiana shoreline | 3/23/2012
BHP Billiton Petroleum (GOM) Inc., Exploration Plan, SEA N-9607 | Green Canyon, Blocks 676 & 632, Leases OCS-G 32525 & 25177, located 122 miles to the nearest Louisiana shoreline | 3/27/2012
Energy Resource Technology GOM, Inc., Structure Removal, SEA ES/SR 11-304 | South Timbalier, Block 63, Lease OCS-G 00599, located 18 miles from the nearest Louisiana shoreline | 3/27/2012
Energy Resource Technology GOM, Inc., Structure Removal, SEA ES/SR 11-307 | South Timbalier, Block 63, Lease OCS-G 00599, located 18 miles from the nearest Louisiana shoreline | 3/27/2012
Shell Offshore Inc., Development Operations Coordination Document, SEA R-5331 | Mississippi Canyon, Block 809, located 53 miles from the nearest Louisiana shoreline, south of Boothville, Louisiana | 3/28/2012
Prime Offshore L.L.C., Structure Removal, SEA ES/SR 12-087 | South Padre Island, Block 1111, Lease OCS-G 24300, located 11 miles from the nearest Texas shoreline | 3/28/2012
Energy Resource Technology GOM, Inc., Structure Removal, SEA ES/SR 11-308 | South Timbalier, Block 63, Lease OCS-G 00599, located 18 miles from the nearest Louisiana shoreline | 3/28/2012
Energy Resource Technology GOM, Inc., Structure Removal, SEA ES/SR 11-309 | South Timbalier, Block 63, Lease OCS-G 00599, located 18 miles from the nearest Louisiana shoreline | 3/28/2012
Chevron U.S.A. Inc., Structure Removal, SEA ES/SR 12-051, 12-052, 12-053 & 12-054 | Eugene Island, Block 74, Lease OCS-G 02099, located 18 miles from the nearest Louisiana shoreline | 3/29/2012
LLOG Exploration Offshore, L.L.C., Structure Removal, SEA ES/SR 12-125 | High Island, Block 156, Lease OCS-G 27507, located 24 miles from the nearest Texas shoreline | 3/29/2012
Hilcorp Energy GOM, LLC, Structure Removal, SEA ES/SR 11-169 & 11-170 | West Cameron, Block 643, Lease OCS-G 02241, located 128 miles from the nearest Louisiana shoreline | 3/29/2012
FairfieldNodal, Geological & Geophysical Survey, SEA L12-003 | Located in the Central Planning Area of the Gulf of Mexico | 3/30/2012
EMGS Americas Inc., Geological and Geophysical Survey, SEA M09-013 | Located in the Eastern Planning Area of the Gulf of Mexico | 3/30/2012
Energy Resource Technology GOM, Inc., Structure Removal, SEA ES/SR 11-310 | South Timbalier, Block 63, Lease OCS 00599, located 18 miles from the nearest Louisiana shoreline | 3/30/2012
JX Nippon Oil Exploration (U.S.A.) Limited, Structure Removal, SEA ES/SR 12-097 | West Cameron, Block 551, Lease OCS-G 02555, located 99 miles from the nearest Louisiana shoreline | 3/30/2012

Persons interested in reviewing environmental documents for the proposals listed above or obtaining information about SEAs, EAs and FONSIs prepared by the Gulf of Mexico OCS Region are encouraged to contact BOEM at the address or telephone listed in the FOR FURTHER INFORMATION CONTACT section.

Dated: May 11, 2012.
John Rodi,
Regional Director, Gulf of Mexico OCS Region.

[FR Doc. 2012-14092 Filed 6-8-12; 8:45 am]

BILLING CODE 4310-VH-P